DEPARTMENT OF ENERGY

Federal Energy Regulatory Commission

[Docket No. RP18-276-000]

Southern Star Central Gas Pipeline, Inc.; Notice of Technical Conference

Take notice that a technical conference will be held on Wednesday, March 21, 2018 at 10:00 a.m. (Eastern Standard Time), in a room to be determined at the offices of the Federal Energy Regulatory Commission, 888 First Street NE, Washington, DC 20426.

At the technical conference, the Commission Staff and the parties to the proceeding should be prepared to discuss all issues set for technical conference as established in the January 30, 2018 Order, Southern Star Central Gas Pipeline, Inc., 162 FERC 61,070. All interested persons are permitted to attend.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact Richard Wartchow, 202-502-6000.

Dated: March 7, 2018.
Kimberly D. Bose,
Secretary.

[FR Doc. 2018-05111 Filed 3-13-18; 8:45 am]

BILLING CODE 6717-01-P